DEPARTMENT OF TRANSPORTATION

Federal Aviation Administration

14 CFR Part 39

[Docket No. FAA-2013-0500; Directorate Identifier 2012-SW-45-AD; Amendment 39-17624; AD 2013-20-18]

RIN 2120-AA64

Airworthiness Directives; Bell Helicopter Textron, Inc. (Bell) Helicopters

AGENCY: Federal Aviation Administration (FAA), DOT.

ACTION: Final rule.

SUMMARY: We are superseding Airworthiness Directive (AD) 2009-05-09 for Bell Model 412, 412CF, and 412EP helicopters. AD 2009-05-09 required reidentifying each affected part-numbered main rotor yoke (yoke) on its data plate, reducing the retirement life of the reidentified yoke, and revising the Airworthiness Limitations section of the maintenance manual or the Instructions for Continued Airworthiness (ICAs) accordingly. This new AD retains the requirements of AD 2009-05-09 with the exception of the P/N marking location. This AD was prompted by fatigue analysis that shows the retirement life should be reduced on certain yokes. We are issuing this AD to correct the unsafe condition on these helicopters.

DATES: This AD is effective November 29, 2013.

ADDRESSES: For service information identified in this AD, contact Bell Helicopter Textron, Inc., P.O. Box 482, Fort Worth, TX 76101; telephone (817) 280-3391; fax (817) 280-6466; or at http://www.bellcustomer.com/files/. You may review a copy of the referenced service information at the FAA, Office of the Regional Counsel, Southwest Region, 2601 Meacham Blvd., Room 663, Fort Worth Texas 76137.

Examining the AD Docket: You may examine the AD docket on the Internet at http://www.regulations.gov or in person at the Docket Operations Office between 9 a.m. and 5 p.m., Monday through Friday, except Federal holidays. The AD docket contains this AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Michael Kohner, ASW-170, Aviation Safety Engineer, Rotorcraft Directorate, Rotorcraft Certification Office, 2601 Meacham Blvd., Fort Worth, Texas 76137, telephone (817) 222-5170, fax (817) 222-5783, email 7-avs-asw-170@faa.gov.

SUPPLEMENTARY INFORMATION:

Discussion

We issued a notice of proposed rulemaking (NPRM) to amend 14 CFR part 39 to supersede AD 2009-05-09, Amendment 39-15833 (74 FR 11001, March 16, 2009). AD 2009-05-09 applied to Bell Model 412, 412CF, and 412EP helicopters. The NPRM published in the Federal Register on June 11, 2013 (78 FR 34958). The NPRM proposed to retain the requirements of AD 2009-05-09 to reidentify each affected part-numbered yoke based on whether it was ever installed on a Model 412CF helicopter or on a Model 412 or 412EP helicopter with a slope landing kit, reduce the retirement life of each reidentified yoke, revise the Airworthiness Limitations section of the maintenance manual or ICAs accordingly, and record each reidentified yoke P/N and the reduced retirement life on the component history card or equivalent record. However, the NPRM proposed to change the requirement to reidentify the yoke by etching the new P/N on the side of the yoke instead of on the data plate.

Comments

We gave the public the opportunity to participate in developing this AD. We received no comments on the NPRM (78 FR 34958, June 11, 2013) or on the determination of the cost to the public.

FAA's Determination

We have reviewed the relevant information and determined that an unsafe condition exists and is likely to exist or develop on other products of these same type designs and that air safety and the public interest require adopting the AD requirements as proposed except for minor editorial changes in paragraphs (f)(2) and (f)(3) to clarify the intent of paragraph (f)(2) and to remove an unnecessary reference. These minor editorial changes are consistent with the intent of the proposals in the NPRM (78 FR 34958, June 11, 2013) and will not increase the economic burden on any operator nor increase the scope of the AD.

Costs of Compliance

We estimate that this AD will affect 115 helicopters of U.S. Registry. We estimate that operators may incur the following costs in order to comply with this AD. It will take about 3 work hours to review and revise the records to reflect the new retirement life and reidentify the P/N at an average labor rate of $85 per work hour. Based on these estimates, the cost will be $255 per helicopter and $29,325 for the U.S. operator fleet. Replacing a yoke will take about 20 work hours and $50,196 for the required parts for a cost of $51,896 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-05-09, Amendment 39-15833 (74 FR 11001, March 16, 2009), and adding the following new AD:

2013-20-18 Bell Helicopter Textron, Inc.: Amendment 39-17624; Docket No. FAA-2013-0500; Directorate Identifier 2012-SW-45-AD.

(a) Applicability

This AD applies to Model 412 and 412EP helicopters with a main rotor yoke assembly (yoke), part number (P/N) 412-010-101-123, -127, -129, or -133, installed; and Model 412CF helicopters with a yoke, P/N 412-010-101-127 or -129, installed; certificated in any category.

(b) Unsafe Condition

This AD defines the unsafe condition as fatigue cracking of a yoke, failure of the yoke, and subsequent loss of control of the helicopter.

(c) Affected ADs

This AD supersedes AD 2009-05-09, Amendment 39-15833 (74 FR 11001, March 16, 2009).

(d) Effective Date

This AD becomes effective November 29, 2013.

(e) Compliance

You are responsible for performing each action required by this AD within the specified compliance time, unless it has been accomplished previously.

(f) Required Actions

Within 10 hours time-in-service (TIS):

(1) Review the helicopter records to determine all of the helicopter models on which an affected yoke has been installed since its production and the hours TIS of each affected yoke.

(2) If an affected part-numbered yoke has ever been installed on a Model 412CF helicopter or on a Model 412 or 412EP helicopter with a slope landing kit, P/N 412-704-012-101, installed, do the following:

(i) Reidentify the P/N on the side of the yoke by using a vibrating stylus and etching two lines through the last three digits of the existing P/N and etching “137FM” adjacent to where you etched through the last three digits of the original P/N. This converts each affected yoke P/N to a new yoke P/N 412-010-101-137FM. The serial number remains the same.

Note 1 to paragraph (f)(2)(i) of this AD: The “FM” P/N suffix denotes a field-modified part.

(ii) Treat the etched surface with chemical film, and apply primer and paint.

(iii) Record the reidentified P/N on the applicable component history card or equivalent record.

(3) If you cannot determine all the model helicopters on which an affected yoke has been installed since its production or whether it has ever been installed on a Model 412 or 412EP helicopter with a slope landing kit, P/N 412-704-012-101, installed, perform the actions required by paragraphs (f)(2)(i) through (f)(2)(iii) of this AD.

(4) For each reidentified yoke, P/N 412-010-101-137FM, reduce the retirement life from 5,000 hours TIS to 4,500 hours TIS. Record the revised life limit on the applicable component history card or equivalent record.

(5) Revise the Airworthiness Limitations section of the applicable maintenance manual or the Instructions for Continued Airworthiness by reducing the retirement life from 5,000 hours TIS to 4,500 hours TIS for each reidentified yoke, P/N 412-010-101-137FM.

(g) Special Flight Permit

Special flight permits will not be issued.

(h) Alternative Methods of Compliance (AMOCs)

(1) The Manager, Rotorcraft Certification Office, FAA, may approve AMOCs for this AD. Send your proposal to: Michael Kohner, ASW-170, Aviation Safety Engineer, 2601 Meacham Blvd., Fort Worth, Texas 76137; telephone (817) 222-5170, fax (817) 222-5783; email 7-avs-asw-170@faa.gov.

(2) For operations conducted under 14 CFR part 119 operating certificate or under 14 CFR part 91, subpart K, we suggest that you notify your principal inspector, or lacking a principal inspector, the manager of the local flight standards district office or certificate holding district office before operating any aircraft complying with this AD through an AMOC.

(i) Additional Information

Bell Helicopter Textron, Inc. Alert Service Bulletins No. 412-08-128 and No. 412CF-08-35, both Revision A and both dated April 14, 2009, which are not incorporated by reference, contain additional information about the subject of this AD. For service information identified in this AD, contact Bell Helicopter Textron, Inc., P.O. Box 482, Fort Worth, TX 76101; telephone (817) 280-3391; fax (817) 280-6466; or at http://www.bellcustomer.com/files/. You may review service information at the FAA, Office of the Regional Counsel, Southwest Region, 2601 Meacham Blvd., Room 663, Fort Worth, Texas 76137.

(j) Subject

Joint Aircraft System/Component (JASC) Code: 6220 Main Rotor Head.

Issued in Fort Worth, Texas, on September 27, 2013.
Lance T. Gant,
Acting Directorate Manager, Rotorcraft Directorate, Aircraft Certification Service.

[FR Doc. 2013-24961 Filed 10-24-13; 8:45 am]

BILLING CODE 4910-13-P